DEPARTMENT OF ENERGY

Federal Energy Regulatory Commission

[Docket Nos. CP14-347-000 CP14-511-000]

Magnolia LNG, LLC, Kinder Morgan Louisiana Pipeline LLC; Notice of Availability of The Final Environmental Impact Statement for the Proposed Magnolia LNG and Lake Charles Expansion Projects

The staff of the Federal Energy Regulatory Commission (FERC or Commission) has prepared a final environmental impact statement (EIS) for the Magnolia LNG Project proposed by Magnolia LNG, LLC (Magnolia) and the Lake Charles Expansion Project proposed by Kinder Morgan Louisiana Pipeline LLC (Kinder Morgan) in the above-referenced dockets. The Magnolia LNG Project would include construction and operation of a liquefied natural gas (LNG) terminal that would include various liquefaction, LNG distribution, and appurtenant facilities. The Lake Charles Expansion Project would include reconfiguration of Kinder Morgan's existing pipeline system in order to accommodate Magnolia's request for natural gas service at the LNG terminal site. The projects would provide an LNG export capacity of 1.08 billion cubic feet per day of natural gas.

The final EIS assesses the potential environmental effects of construction and operation of the Magnolia LNG and Lake Charles Expansion Projects in accordance with the requirements of the National Environmental Policy Act (NEPA). The FERC staff concludes that approval of the proposed projects would result in adverse environmental impacts; however, these impacts would be reduced to less-than-significant levels with the implementation of Magnolia's and Kinder Morgan's proposed mitigation and the additional measures recommended in the final EIS.

The U.S. Army Corps of Engineers, U.S. Coast Guard, U.S. Department of Energy, U.S. Department of Transportation, and U.S. Environmental Protection Agency participated as cooperating agencies in the preparation of the final EIS. Cooperating agencies have jurisdiction by law or special expertise with respect to resources potentially affected by a proposal and participate in the NEPA analysis. Although the cooperating agencies provided input on the conclusions and recommendations presented in the final EIS, the agencies will present their own conclusions and recommendations in their respective records of decision or determinations for the projects.

The final EIS addresses the potential environmental effects of the construction, modification, and operation of the following facilities associated with the two projects:

• A new LNG terminal that includes four liquefaction trains, two LNG storage tanks, liquefaction and refrigerant units, safety and control systems, and associated infrastructure;

• LNG truck loading facilities;

• LNG carrier and barge loading facilities;

• one new meter station;

• one new 32,000 horsepower compressor station;

• approximately 40 feet of 36-inch-diameter feed gas line to supply natural gas to the LNG terminal from Kinder Morgan's existing natural gas transmission pipeline;

• a new 1.2-mile-long, 36-inch-diameter low pressure natural gas header pipeline;

• a new 700-foot-long, 24-inch-diameter high pressure natural gas header pipeline;

• modifications at six existing meter stations; and

• construction of miscellaneous auxiliary and appurtenant facilities.

The FERC staff mailed copies of the final EIS to federal, state, and local government representatives and agencies; elected officials; environmental and public interest groups; Native American tribes; potentially affected landowners; other interested individuals and non-governmental organizations; newspapers and libraries in the project areas; and parties to these proceedings. Paper copy versions of this EIS were mailed to those specifically requesting them; all others received a compact disk version. In addition, the final EIS is available for public viewing on the FERC's Web site (www.ferc.gov) using the eLibrary link. A limited number of hardcopies are available for distribution and public inspection at: Federal Energy Regulatory Commission, Public Reference Room, 888 First Street NE., Room 2A, Washington, DC 20426, (202) 502-8371.

Additional information about the projects is available from the Commission's Office of External Affairs, at (866) 208-FERC, or on the FERC Web site (www.ferc.gov) using the eLibrary link. Click on the eLibrary link, click on “General Search,” and enter the docket number(s) excluding the last three digits in the Docket Number field (i.e., CP14-347 and CP14-511). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: November 13, 2015.
Nathaniel J. Davis, Sr.,
Deputy Secretary.

[FR Doc. 2015-29512 Filed 11-18-15; 8:45 am]

BILLING CODE 6717-01-P